DEPARTMENT OF AGRICULTURE

Office of the Secretary

7 CFR Parts 1 and 2

Rural Utilities Service

7 CFR Part 1700

World Agricultural Outlook Board

7 CFR Part 3800

RIN 0503-AA56

Revision of Delegations of Authority

AGENCIES: Office of the Secretary, Rural Utilities Service, World Agricultural Outlook Board, USDA.

ACTION: Final rule.

SUMMARY: This document revises the delegations of authority from the Secretary of Agriculture and general officers of the Department of Agriculture (USDA) to reflect changes and additions to the delegations required by the Agricultural Act of 2014, Public Law 113-79. Other additions, deletions, and changes are made as summarized below.

DATES: Effective July 30, 2014.

FOR FURTHER INFORMATION CONTACT: Adam J. Hermann, Office of the General Counsel, USDA, 3311-South Bldg., 1400 Independence Avenue SW., Washington, DC 20250, (202) 720-9425, adam.hermann@ogc.usda.gov.

SUPPLEMENTARY INFORMATION:

Agricultural Act of 2014

The Secretary of Agriculture (Secretary) previously delegated authorities under the Agricultural Act of 2014 (Act), Public Law 113-79, in Secretary's Memorandum (SM) 1076-005 (March 6, 2014), available at http://www.ocio.usda.gov/document/secretarys-memorandum-1076-005. This rule codifies those delegations and makes other changes to existing delegations required by the Act, as follows. Note that delegations of authority made by SM 1076-005 to conduct or prepare a one-time study, report, economic analysis, or similar activity remain in effect until such study, report, economic analysis, or similar activity is completed and, thus, are not reflected in this rulemaking.

Title I of the Act provides several authorities that do not fit within existing delegations. The following provisions of title I are being delegated to the Under Secretary for Farm and Foreign Agricultural Services (FFAS) in 7 CFR 2.16 and the Administrator of the Farm Service Agency (FSA) in 7 CFR 2.42, as follows: Sections 1401-1410 (margin protection program for dairy producers); section 1431 (dairy product donation program); and section 1612 (tracking of benefits).

Additionally, the delegations to the Under Secretary for FFAS at 7 CFR 2.16(a)(1)(xxv) and the Administrator, FSA at 7 CFR 2.42(a)(45) are revised to clarify that Commodity Credit Corporation programs covered by those delegations include those that support production agriculture and producer income support, or that provide disaster assistance or the domestic marketing of commodities.

The Under Secretary for FFAS is redelegating part of his delegated authority in 7 CFR 2.16(a)(3)(xxxix) to the Administrator, FSA to enter into cooperative agreements under section 1472(b) of the National Agricultural Research, Extension, and Teaching Policy Act of 1977 (7 U.S.C. 3318(b)) for the purpose of implementing section 1614(c)(3) of the Act. Section 1614(c)(3) provides funding for producer education, including the development of web-based decision aids and training.

Title II of the Act adds or revises several authorities that require new delegations of authority to the Under Secretary for Natural Resources and Environment (NRE) and the Chief, Natural Resources Conservation Service (NRCS), as follows: Section 2301 (new Agricultural Conservation Easement Program); section 2401 (new Regional Conservation Partnership Program); section 2507 (revised Terminal Lakes assistance program); and section 2609 (revised wetlands mitigation banking program). 7 CFR 2.20 is amended to reflect the delegation of these authorities to the Under Secretary for NRE, and 7 CFR 2.61 is amended to reflect the delegation of these authorities to the Chief, NRCS.

In addition, section 2503 of the Act provides new funding to carry out the Voluntary Public Access and Habitat Incentive Program under section 1240R of the Food Security Act of 1985 (16 U.S.C. 3839bb-5). This authority, previously delegated to the Under Secretary for FFAS and the Administrator, FSA, is transferred to the Under Secretary for NRE and the Chief, NRCS.

Section 2611 of the Act amends title XII of the Food Security Act of 1985 to add new authorities regarding highly erodible land and wetland conservation for crop insurance. While the Under Secretaries for FFAS and NRE, the Administrator, FSA, and the Chief, NRCS, have existing delegations of authority that cover this part of the Food Security Act of 1985, a new delegation of authority is being added to 7 CFR 2.44 for the Administrator, Risk Management Agency (RMA) to carry out the functions pertaining to RMA.

Title IV of the Act provides several authorities related to nutrition that require new delegations of authority. The delegations at 7 CFR 2.19 are amended to reflect the delegation of these authorities to the Under Secretary for Food, Nutrition, and Consumer Services (FNCS), and the delegations at 7 CFR 2.57 are amended to reflect the redelegation of these authorities to the Administrator of the Food and Nutrition Service (FNS), as follows: section 4004(b) (demonstration project regarding the Food Distribution Program on Indian Reservations); section 4031 (Commonwealth of the Northern Mariana Islands pilot program regarding the Supplemental Nutrition Assistance Program (SNAP)); section 4032 (annual State reporting on verification of SNAP participation); section 4033 (service of traditional foods in public facilities); and section 4214 (pilot project for canned, frozen, or dried fruits and vegetables as part of the Fresh Fruit and Vegetable Program under the Richard B. Russell National School Lunch Act). Additionally, 7 CFR 2.19 is amended to reflect the delegation of authority to the Under Secretary for FNCS to establish a multiagency task force for the purpose of providing coordination and direction for commodity programs, as required by section 4205 of the Act, which amended the Department of Agriculture Reorganization Act of 1994.

Section 4204 of the Act amends the authority of the Secretary in section 301 of the National Nutrition Monitoring and Related Research Act of 1990 to publish the “Dietary Guidelines for Americans.” A new, specific delegation is added to the Under Secretary for FNCS and Administrator, FNS, to administer section 301.

Section 4206 of the Act amends the Department of Agriculture Reorganization Act of 1994 to authorize a new Healthy Food Financing Initiative. The delegations at 7 CFR 2.17 and 2.48 are amended to reflect that the Under Secretary for Rural Development (RD) and Administrator of the Rural Business-Cooperative Service (RBS) are delegated this authority.

Section 4208 of the Act establishes a food insecurity nutrition incentive grants program, and section 4209 authorizes a competitively awarded food and agriculture service learning grant program to increase knowledge of agriculture and improve the nutritional health of children. The delegations at 7 CFR 2.21 and 2.66 are amended to reflect that the Under Secretary for Research, Education, and Economics (REE) and the Director of the National Institute of Food and Agriculture (NIFA) are delegated these authorities.

Section 4213 seeks to encourage awareness and interest in the number and variety of pulse crop products available to schoolchildren. Section 4213(c) directs the Secretary to purchase eligible pulse crops and pulse crop products for use in the school lunch and school breakfast programs. 7 CFR 2.22 and 2.79 are amended to reflect the delegation of this purchasing authority to the Under Secretary for Marketing and Regulatory Programs (MRP) and the Administrator of the Agricultural Marketing Service (AMS), respectively. Sections 4213(d) and (e), which provide a one-time evaluation and reporting requirement, were delegated to the Under Secretary for FNCS and the Administrator, FNS, by SM 1076-005 and are not reflected in this rulemaking.

Title VI of the Act, at section 6205, amends the Farm Security and Rural Investment Act of 2002 to authorize a rural energy savings program. Section 6210 provides funding for certain pending loan and grant applications. The delegations at 7 CFR 2.17 and 2.47 are amended to reflect the delegation of these authorities to the Under Secretary for RD and the Administrator of the Rural Utilities Service, respectively.

Section 6017 of the Act moves the authority for the Intermediary Relending Program from the Food Security Act of 1985 to the Consolidated Farm and Rural Development Act. Section 6209 provides authorities relating to the collection and reporting of program metrics. The delegations at 7 CFR 2.17 and 2.48 are amended to reflect the delegation of these authorities to the Under Secretary for RD and the Administrator, RBS, respectively.

Title VII of the Act provides several new authorities involving research, extension, and related matters. The delegations of authority at 7 CFR 2.21 are amended to reflect the delegation of these authorities to the Under Secretary for REE, and the delegations at 7 CFR 2.65 and 2.66 are amended to reflect the delegation of these authorities to the Administrator of the Agricultural Research Service (ARS) and the Director of NIFA, respectively, as follows: section 7104—a competitive grants program for the purpose of developing, implementing, and sustaining veterinary services (NIFA); section 7121—authority to enter into agreements with former USDA agricultural research facilities for the purpose of supporting ongoing research and information dissemination activities (ARS); section 7310—a forestry and forestry products research and extension initiative (NIFA); and section 7603—authority for the National Agricultural Library to enter into cooperative agreements with institutions of higher education regarding the dissemination of agricultural and food law research, legal tools, and information (ARS). The Under Secretary for REE is also delegated the authority in section 7513(2) of the Act to submit an annual report to Congress describing agricultural research, extension, and education activities carried out by the Federal Government.

Additionally, the delegation of section 1672 of the Food, Agriculture, Conservation, and Trade Act of 1990 (7 U.S.C. 5925), as amended by the Act, to the Under Secretary for REE (7 CFR 2.21(a)(1)(lxxx)) is revised to clarify that the REE mission area is responsible for carrying out the pollinator authorities in section 1672(g) of that act, including the annual report, except for the honey bee surveillance authorities that are delegated to the Under Secretary for MRP (7 CFR 2.22(a)(2)(xli)). The delegation to the Director of NIFA (7 CFR 2.66(a)(42)) is revised to clarify that NIFA is responsible for carrying out the pollinator authorities in section 1672(g) of that act, except for the honey bee surveillance authorities that are delegated to the Administrator of the Animal and Plant Health Inspection Service (APHIS) (7 CFR 2.80(a)(47)) and the pollinator health research activities that are delegated to the Administrator of ARS (7 CFR 2.65(a)(113)).

Section 7106 directs that the authority of the Secretary to make competitive grants to, or enter into cooperative agreements with, agricultural and food policy research centers under section 1419A of the National Agricultural Research, Extension, and Teaching Policy Act of 1977 (7 U.S.C. 3155) is to be carried out through the Office of the Chief Economist. This authority was previously delegated to the Under Secretary for REE and the Director of NIFA. A new delegation of authority for this program is added to 7 CFR 2.29 for the Chief Economist.

Title VIII of the Act adds two authorities to the Healthy Forests Restoration Act of 2003 (HFRA) (16 U.S.C. 6501 et seq.)—authority to address insect and disease infestation on designated National Forest System (NFS) land (section 8204) and permanent authority for stewardship end result contracting projects (section 8205). A new, specific delegation is added to 7 CFR 2.20 (Under Secretary for NRE) and 2.60 (Chief, Forest Service) to administer the HFRA, including the authorities added by sections 8204 and 8205 of the Act. The new delegation excepts the Healthy Forests Reserve Program authorized under title V of HFRA, which is already delegated to the Under Secretary for NRE and the Chief, NRCS.

Section 8206 of the Act provides authority (known as the “Good Neighbor Authority”) for the Secretary to enter into contracts and cooperative agreements with a State to carry out forest, rangeland, and watershed restoration services on NFS lands. Similar Good Neighbor Authority is provided in section 331 of the Department of the Interior and Related Agencies Appropriations Act, 2001 (Pub. L. 106-291; 114 Stat. 996), as amended and extended through fiscal year 2018 by section 417 of the Department of the Interior, Environment, and Related Agencies Appropriations Act, 2014 (Pub. L. 113-76, div. G). The delegations at 7 CFR 2.20 and 2.60 are amended to reflect the delegation of this authority to the Under Secretary for NRE and Chief, Forest Service, respectively.

The following provisions of the Act are also delegated to the Under Secretary for NRE and Chief, Forest Service: Section 8302 (authorizes the Forest Service to utilize conservation-related program funds to establish an Agriculture Conservation Experience Services (ACES) Program to provide technical services for conservation-related programs and authorities carried out on NFS land); section 8304 (provides for State-to-State reimbursement of amounts expended for resources and services for wildfire management and suppression and authorizes the Secretary to retain any funds received as reimbursements for costs incurred by the Secretary for fire protection and to credit the amounts to the same appropriation from which the expenses were paid); and section 8305 (authorizes establishment of a large airtanker and aerial asset lease program).

Section 9002(a)(5) of the Act adds a new authority to the Secretary, acting through the Forest Products Laboratory of the Forest Service, to provide appropriate technical and other assistance with respect to determining eligibility of forest products for the “USDA Certified Biobased Product” labeling program. The delegations at 7 CFR 2.20 and 2.60 are amended to reflect the delegation of this authority to the Under Secretary for NRE and Chief, Forest Service, respectively.

Section 10016 of the Act adds new authorities regarding local food production and program evaluation. The delegations at 7 CFR 2.21 and 2.67 are amended to reflect that the authority to coordinate implementation of section 10016 is delegated to the Under Secretary for REE and Administrator, Economic Research Service (ERS), respectively. Delegations are also added to 7 CFR 2.16 (Under Secretary for FFAS), 2.22 (Under Secretary for MRP), 2.44 (Administrator, RMA), 2.68 (Administrator, National Agricultural Statistics Service), and 2.79 (Administrator, AMS) to assist with implementing section 10016.

Section 11014(c) of the Act directs the Secretary to prepare a cropland acreage report and annual updates to the report. The delegations at 7 CFR 2.16 and 2.44 are amended to reflect the delegation of this responsibility to the Under Secretary for FFAS and Administrator, RMA, respectively.

Additionally, a new delegation of authority is added to 7 CFR 2.16 and 2.44 to clarify the authority of the Under Secretary for FFAS and Administrator, RMA, respectively, to administer the Federal Crop Insurance Act.

In title XII of the Act, section 12303 directs the Secretary to maintain, in the Office of the Secretary, an Office of Tribal Relations to advise the Secretary on policies related to Indian tribes and carry out such other functions as the Secretary considers appropriate. The Department already maintains an Office of Tribal Relations within the Office of the Secretary. To reflect this, a new section (§ 2.38) is added to identify the delegated functions and duties of the Director, Office of Tribal Relations, who reports to the Secretary. Some of those functions had been delegated to the Director, Office of Intergovernmental Affairs (§ 2.85(a)(5)), through the Assistant Secretary for Congressional Relations (§ 2.23(a)(2)(v)), and are now being transferred to the Director, Office of Tribal Relations. Additionally, 7 CFR 2.4 is amended to add the Director, Office of Tribal Relations to the list of general officers of the Department.

Section 12306 authorizes a new competitive grants program to support the efforts of States, tribal governments, and research institutions to promote the domestic maple syrup industry. This authority, which was delegated by SM 1076-005 to the Chief of the Forest Service, through the Under Secretary for NRE, is now being delegated to the Administrator of AMS, through the Under Secretary for MRP. The delegations at 7 CFR 2.22 and 2.79 are amended to reflect this.

Section 12309 directs the Secretary to provide technical assistance to U.S. Customs and Border Protection related to the identification of produce that is represented as grown in the United States when it is not actually grown in the United States, as well as a report to Congress. The delegations at 7 CFR 2.22 and 2.80 are amended to reflect the delegation of these authorities to the Under Secretary for MRP and Administrator, APHIS, respectively.

The authority of the Secretary to administer section 12314 of the Act (Pima Agriculture Cotton Trust Fund) and section 12315 of the Act (Agriculture Wool Apparel Manufacturers Trust Fund), which was delegated by SM 1076-005 to the Administrator of FSA, through the Under Secretary for FFAS, is now being delegated through the Under Secretary to both the Administrator of FSA and the Administrator of the Foreign Agricultural Service.

Section 12316 of the Act provides continued funding for grants from the Wool Research, Development, and Promotion Trust Fund, which was established by section 506 of the Trade and Development Act of 2000 (7 U.S.C. 7101 note). The delegation of authority to provide grants from the Trust Fund was inadvertently omitted from 7 CFR part 2. The delegations at 7 CFR 2.22 and 2.79 are amended to reflect the delegation of this authority to the Under Secretary for MRP and the Administrator, AMS.

This rulemaking does not add a separate delegation for section 12101 of the Act to amend a rule issued by APHIS implementing a voluntary trichinae certification program. That regulation was issued under the authority of the Agricultural Marketing Act of 1946 and the Animal Health Protection Act, which are already delegated to the Administrator of APHIS. Accordingly, no new delegation is necessary to carry out the requirements of section 12101 of the Act.

Finally, this rulemaking makes a number of miscellaneous changes by removing delegations of statutory authorities that were repealed by the Act or delegations that are otherwise obsolete, and by revising existing delegations to reflect amendments made by the Act or to make other updates or corrections to descriptions and citations.

Other Delegations

This rulemaking also amends the delegations of authority to reflect the 2013 realignment of the Office of the Chief Financial Officer (OCFO) and the Office of Budget and Program Analysis (OBPA). See Secretary's Memorandum 1072-003 (July 11, 2013), available at http://www.ocio.usda.gov/document/secretarys-memorandum-1072-003. In 2013, OCFO, previously established within the Departmental Management organization, was transferred from the supervision of the Assistant Secretary for Administration (ASA) to the supervision of the Secretary. The delegations from the Secretary to the ASA in 7 CFR 2.24(a)(3), and the delegations from the ASA to the Chief Financial Officer in 7 CFR 2.90, are removed. The functions of the Chief Financial Officer are now reflected in a new 7 CFR 2.28. Also, as part of the 2013 realignment, OBPA, previously established within OCFO, was transferred from the supervision of the Chief Financial Officer to the supervision of the Secretary. The delegations from the Chief Financial Officer to the Director, OBPA in 7 CFR 2.501 are removed. The functions of the Director, OBPA are now reflected in a new 7 CFR 2.30.

This rulemaking also amends the delegations of authority to reflect the realignment of the Office of Small and Disadvantaged Business Utilization (OSDBU) to implement amendments made to section 15(k) of the Small Business Act (15 U.S.C. 644(k)) by the National Defense Authorization Act for Fiscal Year 2013, Pub. L. 112-239. See Secretary's Memorandum 1076-007 (April 8, 2014), available at http://www.ocio.usda.gov/document/secretarys-memorandum-1076-007. Previously, the ASA was the Department's Director of Small and Disadvantaged Business Utilization, who had management responsibility for OSDBU. OSDBU was headed by a Director under the supervision of the ASA. Pursuant to the Small Business Act amendments noted above, the delegations of authority are being revised to reflect that the Director, OSDBU is now the Department's Director of Small and Disadvantaged Business Utilization, who will report directly to the Secretary or Deputy Secretary. A new section (§ 2.37) is added to reflect the functions and duties of the Director, OSDBU. Additionally, 7 CFR 2.4 is amended to reflect the Director, OSDBU as a general officer of the Department. The delegations from the Secretary to the ASA in 7 CFR 2.24(a)(5) are amended to reflect that offices within the Departmental Management organization will continue to provide general administrative support to OSDBU. The delegations from the ASA to the Director, OSDBU in 7 CFR 2.92 are removed.

New delegations of authority are added from the Under Secretary for REE to the Director, NIFA in 7 CFR 2.66 and the Administrator, ERS in 7 CFR 2.67 to enter into agreements with and receive funds from any State, other political subdivision, organization, or individual for the purpose of conducting cooperative research projects (7 U.S.C. 450a).

This rulemaking also amends the delegation of authority from the Under Secretary for RD to the Deputy Under Secretary for RD in 7 CFR 2.45, which gives the Deputy Under Secretary, during the absence or unavailability of the Under Secretary, the authority to perform all the duties and exercise all the powers delegated to the Under Secretary. The delegation is amended to establish the order in which a Deputy Under Secretary may exercise that delegation when the Rural Development mission area has more than one Deputy Under Secretary. The authority shall be exercised first by the Deputy Under Secretary for Policy and Planning, and second by the Deputy Under Secretary for Operations and Management.

This rulemaking also revises the delegation of authority to the Under Secretary for NRE in 7 CFR 2.20(a)(2)(viii) to reflect the current administrative review authorities in 36 CFR parts 214, 218, and 219. The delegations of authority to the Under Secretary for NRE in 7 CFR 2.20(a)(2)(xxxix) and Chief of the Forest Service in 7 CFR 2.60(a)(48) are revised to reflect recent changes to the “Service First” program authority (43 U.S.C. 1703).

Additionally, the delegations of authority from the Secretary to the Assistant Secretary for Civil Rights in 7 CFR 2.25 are amended to reflect that the General Counsel has authority for legal sufficiency review of, and concurrence on, settlement offers and draft settlement agreements in Equal Employment Opportunity (EEO) matters that meet certain criteria. The delegations to the General Counsel in 7 CFR 2.31 are amended to reflect that authority and to specify those criteria.

The rule also amends the delegations of authority to the Assistant Secretary for Administration in 7 CFR 2.24 and the Director, Office of Human Resources Management in 7 CFR 2.91 to remove Alternative Dispute Resolution (ADR) from the description of the term “human resources.” This amendment was inadvertently omitted from the final rule transferring ADR authorities to the Assistant Secretary for Civil Rights (78 FR 40935, July 9, 2013).

Finally, a new delegation of authority is added to the Assistant Secretary for Administration in 7 CFR 2.24 and the Director, Office of Advocacy and Outreach in 7 CFR 2.94 to carry out student internship programs under section 922 of the Federal Agriculture Improvement and Reform Act of 1996 (7 U.S.C. 2279c).

Miscellaneous

This rulemaking amends 7 CFR part 1, subpart H, Rules of Practice Governing Formal Adjudicatory Proceedings Instituted by the Secretary Under Various Statutes, to add a reference to section 28(o)(1) of the Mineral Leasing Act, regarding administrative proceedings involving suspensions or terminations of rights-of-way. The list of statutory provisions in 7 CFR 1.131(a) inadvertently omitted that statutory reference.

This rulemaking also amends the RUS organizational rules to reflect the provisions of the Presidential Appointment Efficiency and Streamlining Act of 2011, Public Law 112-166. That act amended section 232 of the Department of Agriculture Reorganization Act of 1994 (7 U.S.C. 6942) to no longer require Senate approval for Presidential appointments of the Administrator, RUS. Pursuant to that amendment, the position of Administrator, RUS is no longer subject to the Federal Vacancies Reform Act of 1998 (Vacancies Act) (5 U.S.C. 3345-3349d). The regulations at 7 CFR 1700.25 and 1700.26 are amended by removing the references to Senate approval and the Vacancies Act. This rulemaking also removes 7 CFR 1700.53, which identifies the order of succession for officials to act as the Administrator, RUS during the Administrator's absence. Orders of succession for USDA officials are coordinated uniformly by USDA's Office of Homeland Security and Emergency Coordination as part of its Continuity of Operations (COOP) planning, and maintained by USDA outside of the Code of Federal Regulations framework. The order of succession established by Executive Order of the President of the United States for the Secretary of Agriculture is reflected in 7 CFR 2.5.

This rulemaking also amends the Office of the Chief Economist, World Agricultural Outlook Board (WAOB) regulations by removing an obsolete reference to remote sensing activities in 7 CFR 3800.3. WAOB's remote sensing authorities have been transferred to the Assistant Secretary for Administration and the Chief Information Officer. See 77 FR 14951 (Mar. 14, 2012).

Classification

This rule relates to internal agency management. Accordingly, pursuant to 5 U.S.C. 553, notice of proposed rulemaking and opportunity for comment are not required, and this rule may be made effective less than 30 days after publication in the Federal Register. This rule also is exempt from the provisions of Executive Order 12866. This action is not a rule as defined by the Regulatory Flexibility Act, as amended by the Small Business Regulatory Enforcement Fairness Act of 1996, 5 U.S.C. 601 et seq., or the Congressional Review Act, 5 U.S.C. 801 et seq., and thus is exempt from the provisions of those acts. This rule contains no information collection or recordkeeping requirements under the Paperwork Reduction Act of 1995 (44 U.S.C. 3501 et seq.).

List of Subjects

7 CFR Part 1

Administrative practice and procedure, Agriculture, Antitrust, Claims, Cooperatives, Courts, Equal access to justice, Fraud, Freedom of information, Government employees, Lawyers, Motion pictures, Penalties, Privacy.

7 CFR Part 2

Authority delegations (Government agencies)

7 CFR Part 1700

Authority delegations (Government agencies), Electric power, Freedom of information, Loan programs-communications, Loan programs-energy, Organization and functions (Government agencies), Rural areas, Telecommunications.

7 CFR Part 3800

Organization and functions (Government agencies).

Accordingly, 7 CFR Subtitle A, and Chapters XVII and XXXVIII, are amended as set forth below:

Subtitle A—Office of the Secretary of Agriculture

PART 1—ADMINISTRATIVE REGULATIONS

Subpart H—Rules of Practice Governing Formal Adjudicatory Proceedings Instituted by the Secretary Under Various Statutes

1. The authority citation for subpart H is revised to read as follows:

Authority: 5 U.S.C. 301; 7 U.S.C. 61, 87e, 228, 268, 499o, 608c(14), 1592, 1624(b), 2151, 2279e, 2621, 2714, 2908, 3812, 4610, 4815, 4910, 6009, 6107, 6207, 6307, 6411, 6519, 6520, 6808, 7107, 7734, 8313; 15 U.S.C. 1828; 16 U.S.C. 620d, 1540(f), 3373; 21 U.S.C. 104, 111, 117, 120, 122, 127, 134e, 134f, 135a, 154, 463(b), 621, 1043; 30 U.S.C. 185(o)(1); 43 U.S.C. 1740; 7 CFR 2.27, 2.35.

2. Amend § 1.131(a) by adding a statutory provision to the list in alphabetical order to read as follows:

§ 1.131 Scope and applicability of this subpart.

(a) * * *

Mineral Leasing Act, section 28(o)(1) (30 U.S.C. 185(o)(1)).

* * * * *

PART 2—DELEGATIONS OF AUTHORITY BY THE SECRETARY OF AGRICULTURE AND GENERAL OFFICERS OF THE DEPARTMENT

3. The authority citation for part 2 continues to read as follows:

Authority: 7 U.S.C. 6912(a)(1); 5 U.S.C. 301; Reorganization Plan No. 2 of 1953, 3 CFR 1949-1953 Comp., p. 1024.

Subpart A—General

4. Revise § 2.4 to read as follows:

§ 2.4 General officers

The work of the Department is under the supervision and control of the Secretary who is assisted by the following general officers: The Deputy Secretary, the Under Secretary for Farm and Foreign Agricultural Services; the Under Secretary for Rural Development; the Under Secretary for Food Safety; the Under Secretary for Food, Nutrition, and Consumer Services; the Under Secretary for Natural Resources and Environment; the Under Secretary for Research, Education, and Economics; the Under Secretary for Marketing and Regulatory Programs; the Assistant Secretary for Congressional Relations; the Assistant Secretary for Administration; the Assistant Secretary for Civil Rights; the Chief Financial Officer; the Chief Economist; the Director, Office of Budget and Program Analysis; the General Counsel; the Inspector General; the Director, National Appeals Division; the Judicial Officer; the Director, Office of Communications; the Director, Office of Small and Disadvantaged Business Utilization; the Director, Office of Tribal Relations; and the Chief Information Officer.

Subpart C—Delegations of Authority to the Deputy Secretary, the Under Secretaries and Assistant Secretaries

5. Amend § 2.16 as follows:

a. Revise the heading in paragraph (a)(1);

b. Revise paragraphs (a)(1)(xviii) and (a)(1)(xxv);

c. Remove and reserve paragraphs (a)(1)(xxx), (a)(1)(xxxi), (a)(1)(xxxiv)(A), (a)(1)(xxxiv)(C), (a)(1)(xxxiv)(D), (a)(1)(xxxiv)(F), and (a)(1)(xxxiv)(G);

d. Add new paragraph (a)(1)(xxxvi);

e. Revise paragraphs (a)(2)(i)(C), (a)(2)(i)(H), (a)(2)(i)(I), and (a)(2)(i)(J);

f. Add new paragraph (a)(2)(i)(M);

g. Revise paragraphs (a)(3)(xii), (a)(3)(xiii), and (a)(3)(xiv);

h. Remove and reserve paragraphs (a)(3)(xv) and (a)(3)(xvi);

i. Add new paragraphs (a)(3)(xlix), (a)(4)(vi), (a)(4)(vii), (a)(4)(viii), and (a)(4)(ix); and

j. Revise paragraph (b)(2)(iii).

The additions and revisions read as follows:

§ 2.16 Under Secretary for Farm and Foreign Agricultural Services.

(a) * * *

(1) Related to Farm Service Agency.

* * * * *

(xviii) Formulate and carry out the Conservation Reserve Program, including the implementation of technical assistance, under the Food Security Act of 1985, as amended (16 U.S.C. 1231 et seq.), and the functions of the Grassland Reserve Program transferred to the Conservation Reserve Program.

* * * * *

(xxv) Administer all programs of the Commodity Credit Corporation that provide assistance with respect to the production of agricultural commodities or the income of producers, including disaster assistance and the domestic marketing of such commodities, except as may otherwise be reserved by the Secretary of Agriculture, and similar programs (including commodity quality development programs) consigned by statute to the Secretary of Agriculture unless otherwise delegated.

* * * * *

(xxx) [Reserved]

(xxxi) [Reserved]

* * * * *

(xxxiv) * * *

(A) [Reserved]

* * * * *

(C) [Reserved]

(D) [Reserved]

* * * * *

(F) [Reserved]

(G) [Reserved]

* * * * *

(xxxvi) Administer the following provisions of the Agricultural Act of 2014, Public Law 113-79:

(A) Sections 1401-1410 relating to a margin protection program for dairy producers (7 U.S.C. 9051-9060), and section 1431 relating to a dairy product donation program (7 U.S.C. 9071).

(B) Section 1612 relating to the tracking of benefits (7 U.S.C. 9095).

(C) Section 12314 relating to the Pima Agriculture Cotton Trust Fund (7 U.S.C. 2101 note).

(D) Section 12315 relating to the Agriculture Wool Apparel Manufacturers Trust Fund (7 U.S.C. 7101 note).

(2) * * *

(i) * * *

(C) Section 306A (7 U.S.C. 1926a) and section 306B (7 U.S.C. 1926b), relating to the emergency community water assistance grant programs, and section 306D (7 U.S.C. 1926d), relating to water systems for rural Alaskan Native Villages;

* * * * *

(H) Section 310C (7 U.S.C. 1933), relating to housing program interest rates;

(I) Section 310G (7 U.S.C. 1936a), relating to the use of rural development loans and grants for other purposes, and section 353A (7 U.S.C. 2001a), relating to the servicing of community facilities loans;

(J) Section 364 (7 U.S.C. 2006f) and section 365 (7 U.S.C. 2008);

* * * * *

(M) Sections 379 (7 U.S.C. 2008n) through 379G (7 U.S.C. 2008u) and subtitles E through I (7 U.S.C. 2009-2009dd-7) relating to rural development programs and activities.

* * * * *

(3) * * *

(xii) Perform functions of the Department in connection with the development and implementation of agreements to finance the sale and exportation of agricultural commodities under the Food for Peace Act (7 U.S.C. 1691, 1701 et seq.).

(xiii) Administer commodity procurement and supply, transportation (other than from point of export, except for movement to trust territories or possessions), handling, payment, and related services in connection with programs under titles II and III of the Food for Peace Act (7 U.S.C. 1691, 1701 et seq.), and payment and related services with respect to export programs and barter operations.

(xiv) Coordinate within the Department activities arising under the Food for Peace Act (except as delegated to the Under Secretary for Research, Education, and Economics in § 2.21(a)(8)), and represent the Department in its relationships in such matters with the Department of State, any interagency committee on the Food for Peace Act, and other departments, agencies and committees of the Government.

(xv) [Reserved]

(xvi) [Reserved]

* * * * *

(xlix) Administer the following provisions of the Agricultural Act of 2014, Public Law 113-79:

(A) Section 12314 relating to the Pima Agriculture Cotton Trust Fund (7 U.S.C. 2101 note).

(B) Section 12315 relating to the Agriculture Wool Apparel Manufacturers Trust Fund (7 U.S.C. 7101 note).

(4) * * *

(vi) Carry out functions relating to highly erodible land and wetland conservation under sections 1211-1213 and 1221-1223 of the Food Security Act of 1985, as amended (16 U.S.C. 3811-3813 and 3821-3823).

(vii) Prepare cropland reports as required by section 11014(c) of the Agricultural Act of 2013, Public Law 113-79.

(viii) Assist the Under Secretary for Research, Education, and Economics with implementing section 10016 of the Agricultural Act of 2014 regarding locally or regionally produced agricultural food products (7 U.S.C. 2204h).

(ix) Administer the Federal Crop Insurance Act (7 U.S.C. 1501, et seq.), except for sections 524(a)(1)(B), (a)(3), and (b) (7 U.S.C. 1524(a)(1)(B), (a)(3), (b)) and 531 (7 U.S.C. 1531).

* * * * *

(b) * * *

(2) * * *

(iii) Determining the agricultural commodities and the quantities thereof available for disposition under the Food for Peace Act (7 U.S.C. 1731).

* * * * *

6. Amend § 2.17 as follows:

a. Remove and reserve paragraph (a)(20)(x);

b. Add new paragraphs (a)(20)(xii) and (a)(20)(xiii);

c. Revise paragraph (a)(21)(ii)(E);

d. Remove and reserve paragraph (a)(21)(iv);

e. Add new paragraphs (a)(21)(xxvi) and (a)(21)(xxvii); and

f. Remove and reserve paragraph (a)(28).

The additions and revisions read as follows:

§ 2.17 Under Secretary for Rural Development.

(a) * * *

(20) * * *

(x) [Reserved]

* * * * *

(xii) Administer section 6407 of the Farm Security and Rural Investment Act of 2002 (7 U.S.C. 8107a), relating to a rural energy savings program.

(xiii) Administer section 6210 of the Agricultural Act of 2014, Public Law 113-79, relating to funding of pending rural development loan and grant applications.

(21) * * *

(ii) * * *

(E) Section 310H (7 U.S.C. 1936b), relating to an intermediary relending program.

* * * * *

(iv) [Reserved]

* * * * *

(xxvi) Administer the Healthy Food Financing Initiative under section 243 of the Department of Agriculture Reorganization Act of 1994 (7 U.S.C. 6953).

(xxvii) Administer section 6209 of the Agricultural Act of 2014 (7 U.S.C. 2207b), relating to the collection and reporting of program metrics.

(28) [Reserved]

* * * * *

7. Amend § 2.19 as follows:

a. Remove paragraph (a)(1)(i)(M); and

b. Add new paragraphs (a)(1)(vii), (a)(1)(viii), and (a)(1)(ix).

The additions read as follows:

§ 2.19 Under Secretary for Food, Nutrition, and Consumer Services.

(a) * * *

(1) * * *

(i) * * *

(M) [Removed]

* * * * *

(vii) Administer the following provisions of the Agricultural Act of 2014, Public Law 113-79:

(A) Section 4004(b), relating to a demonstration project regarding the Food Distribution Program on Indian Reservations (7 U.S.C. 2013 note).

(B) Section 4031, relating to a Commonwealth of the Northern Mariana Islands pilot program regarding the Supplemental Nutrition Assistance Program (48 U.S.C. 1841 note).

(C) Section 4032, relating to annual State reporting on verification of Supplemental Nutrition Assistance Program participation (7 U.S.C. 2036c).

(D) Section 4033, relating to service of traditional foods in public facilities (25 U.S.C. 443d).

(E) Section 4214, relating to a pilot project for canned, frozen, or dried fruits and vegetables as part of the Fresh Fruit and Vegetable Program under the Richard B. Russell National School Lunch Act (42 U.S.C. 1769a note).

(viii) Administer section 301 of the National Nutrition Monitoring and Related Research Act of 1990, relating to the Dietary Guidelines for Americans (7 U.S.C. 5341).

(ix) Implement section 242 of the Department of Agriculture Reorganization Act of 1994 (7 U.S.C. 6952), relating to establishment of a multiagency task force for the purpose of providing coordination and direction for commodity programs.

* * * * *

8. Amend § 2.20 as follows:

a. Revise paragraph (a)(2)(viii);

b. Remove paragraph (a)(2)(xxvii)(E);

c. Add new paragraph (a)(2)(xxviii);

d. Remove and reserve paragraph (a)(2)(xxxvii);

e. Revise paragraph (a)(2)(xxxix);

f. Remove and reserve paragraph (a)(2)(xliii);

g. Revise paragraph (a)(2)(xliv); and

h. Add new paragraphs (a)(2)(xlvi), (a)(2)(xlvii), (a)(2)(xlviii), (a)(2)(xlix), (a)(2)(l), (a)(2)(li), (a)(3)(xiii)(S), (a)(3)(xiii)(T), (a)(3)(xiii)(U), (a)(3)(xiii)(V), and (a)(3)(xxv).

The additions and revisions read as follows:

§ 2.20 Under Secretary for Natural Resources and Environment.

(a) * * *

(2) * * *

(viii) Exercise the administrative appeal review functions of the Secretary of Agriculture for decisions of the Chief of the Forest Service pursuant to 36 CFR parts 214, 218, and 219.

* * * * *

(xxviii) Represent USDA in all matters relating to responsibilities and authorities under the Federal Power Act (16 U.S.C. 791a-823).

* * * * *

(xxxvii) [Reserved]

* * * * *

(xxxix) Establish programs with any bureau of the U.S. Department of the Interior (DOI) in support of the Service First initiative for the purpose of promoting customer service and efficiency including delegating to DOI employees those authorities of the U.S. Department of Agriculture (USDA) necessary to carry out projects on behalf of USDA (43 U.S.C. 1703).

* * * * *

(xliii) [Reserved]

(xliv) Administer the community wood energy program providing grants to develop community wood energy plans, acquire or upgrade community wood energy systems, and establish or expand biomass consumer cooperatives (7 U.S.C. 8113).

* * * * *

(xlvi) Administer the programs authorized by the Healthy Forests Restoration Act of 2003 (16 U.S.C. 6501 et seq.), except for the Healthy Forests Reserve Program authorized in title V of such act (16 U.S.C. 6571-6578).

(xlvii) Administer Good Neighbor contracts and cooperative agreements with a State to carry out forest, rangeland, and watershed restoration services on National Forest System lands (16 U.S.C. 2113a; Pub. L. 106-291, section 331, as amended).

(xlviii) Utilize the Agriculture Conservation Experienced Services (ACES) Program (16 U.S.C. 3851) to provide technical services for conservation-related programs and authorities carried out on National Forest System lands (16 U.S.C. 3851a).

(xlix) Administer reimbursements received for fire suppression (42 U.S.C. 1856e; 42 U.S.C. 1856d(b)).

(l) Administer the large airtanker and aerial asset lease program (16 U.S.C. 551c).

(li) Provide technical and other assistance with respect to eligibility of forest products for the “USDA Certified Biobased Products” labeling program (7 U.S.C. 8102(g)).

(3) * * *

(xiii) * * *

(S) The Agricultural Conservation Easement Program authorized by sections 1265-1265D of the Act (16 U.S.C. 3865-3865d).

(T) The Regional Conservation Partnership Program authorized by sections 1271-1271F (16 U.S.C. 3871-3871f).

(U) The Voluntary Public Access and Habitat Incentive Program authorized by section 1240R of the Act (16 U.S.C. 3839bb-5).

(V) A wetlands mitigation banking program authorized by section 1222(k) of the Act (16 U.S.C. 3822(k)).

* * * * *

(xxv) Administer the Terminal Lakes assistance program authorized by section 2507 of the Farm Security and Rural Investment Act of 2002 (16 U.S.C. 3839bb-6).

* * * * *

9. Amend § 2.21 as follows:

a. Revise paragraphs (a)(1)(ii), (a)(1)(xix), and (a)(1)(xxv);

b. Remove and reserve paragraphs (a)(1)(xxviii) and (a)(1)(xxix);

c. Revise paragraph (a)(1)(xxx);

d. Remove and reserve paragraph (a)(1)(xlii);

e. Revise paragraphs (a)(1)(xlviii) and (a)(1)(l);

f. Remove and reserve paragraph (a)(1)(lv);

g. Revise paragraph (a)(1)(lxvi);

h. Remove and reserve paragraphs (a)(1)(lxvii), (a)(1)(lxxii), (a)(1)(lxxiii), (a)(1)(lxxiv), (a)(1)(lxxv), (a)(1)(lxxvi), and (a)(1)(lxxviii);

i. Revise paragraph (a)(1)(lxxx);

j. Remove and reserve paragraph (a)(1)(lxxxi);

k. Revise paragraph (a)(1)(lxxxii);

l. Remove and reserve paragraph (a)(1)(lxxxviii);

m. Revise paragraph (a)(1)(ciii);

n. Remove and reserve paragraphs (a)(1)(cxi) and (a)(1)(cxvi);

o. Revise paragraph (a)(1)(cxvii);

p. Remove and reserve paragraphs (a)(1)(cxix) and (a)(1)(cxx);

q. Revise paragraphs (a)(1)(cxxiv), (a)(1)(cxxxv), and (a)(1)(cxli);

r. Remove and reserve paragraphs (a)(1)(cxlv) and (a)(1)(cxlvi);

s. Revise paragraph (a)(1)(cliii);

t. Remove and reserve paragraphs (a)(1)(clxx) and (a)(1)(clxxix);

u. Revise paragraphs (a)(1)(clxxxiv) and (a)(1)(clxxxv);

v. Remove and reserve paragraphs (a)(1)(clxxxviii), (a)(1)(cxcvi), (a)(1)(cxcix), and (a)(1)(cc);

x. Add new paragraphs (a)(1)(ccvi), (a)(1)(ccvii), (a)(1)(ccviii), (a)(1)(ccix), (a)(1)(ccx), (a)(1)(ccxi), and (a)(1)(ccxii);

y. Revise paragraph (a)(7)(i)(C);

z. Remove and reserve paragraphs (a)(8)(iii) and (a)(8)(xi);

aa. Add new paragraph (a)(8)(xviii);

bb. Remove paragraph (a)(10)(iv); and

cc. Revise paragraph (b)(2)(i).

The additions and revisions read as follows:

§ 2.21 Under Secretary for Research, Education, and Economics.

(a) * * *

(1) * * *

(ii) Provide national leadership and support for research, extension, and teaching programs in the food and agricultural sciences to carry out sustainable agriculture research and education; a National Plant Genetic Resources Program; a national agricultural weather information system; and any other provisions pursuant to title XVI of the Food, Agriculture, Conservation, and Trade Act of 1990 (Pub. L. 101-624, 104 Stat. 3703).

* * * * *

(xix) Carry out a program (IR-4 Program) for the collection of residue and efficacy data in support of registration or reregistration of pesticides for minor agricultural use and for use on specialty crops, and to determine tolerances for minor use chemical residues in or on agricultural commodities (7 U.S.C. 450i(e)).

* * * * *

(xxv) Conduct a Special Cotton Research Program designed to reduce the cost of producing upland cotton in the United States (7 U.S.C. 1444a(c)).

* * * * *

(xxviii) [Reserved]

(xxix) [Reserved]

(xxx) Conduct education and extension programs related to nutrition education (7 U.S.C. 2027(a)).

* * * * *

(xlii) [Reserved]

* * * * *

(xlviii) Administer a National Food and Human Nutrition Research and Extension Program (7 U.S.C. 3171-3173, 3175).

* * * * *

(l) Support continuing agricultural and forestry extension and research at 1890 land-grant institutions, including Tuskegee University (7 U.S.C. 3221, 3222, 3222d).

* * * * *

(lv) [Reserved]

* * * * *

(lxvi) Develop and make available handbooks, technical guides, and other educational materials emphasizing sustainable agriculture production systems and practices; carry out activities related to a national training program for sustainable agriculture (7 U.S.C. 5831, 5832).

(lxvii) [Reserved]

* * * * *

(lxxii) [Reserved]

(lxxiii) [Reserved]

(lxxiv) [Reserved]

(lxxv) [Reserved]

(lxxvi) [Reserved]

* * * * *

(lxxviii) [Reserved]

* * * * *

(lxxx) Administer a competitive high priority research and extension grants program in specified subject areas (7 U.S.C. 5925), including pollinator activities (7 U.S.C. 5925(g)) not otherwise delegated to the Under Secretary for Marketing and Regulatory Programs in § 2.22(a)(2)(xli); prepare an annual report to Congress regarding pollinator issues (7 U.S.C. 5925(g)(5)).

(lxxxi) [Reserved]

(lxxxii) Administer competitive grants to support research, education, and extension activities regarding organically grown and processed agricultural commodities (7 U.S.C. 5925b).

* * * * *

(lxxxviii) [Reserved]

* * * * *

(ciii) Administer a cooperative forestry program in accordance with the McIntire-Stennis Cooperative Forestry Act, and administer a competitive forestry, natural resources, and environmental grant program (16 U.S.C. 582a-582-8).

* * * * *

(cxi) [Reserved]

* * * * *

(cxvi) [Reserved]

(cxvii) Obtain and furnish Federal excess property to eligible recipients for use in the conduct of research and extension programs (40 U.S.C. 525(c)).

* * * * *

(cxix) [Reserved]

(cxx) [Reserved]

* * * * *

(cxxiv) Represent the Department on the Federal Interagency Committee on Education.

* * * * *

(cxxxv) Administer the Department's Patent Program except as delegated to the General Counsel in § 2.31(a)(5).

* * * * *

(cxli) Implement and administer the Community Food Projects Program under section 25 of the Food and Nutrition Act of 2008 (7 U.S.C. 2034).

* * * * *

(cxlv) [Reserved]

(cxlvi) [Reserved]

* * * * *

(cliii) Establish procedures that provide for scientific peer review of each agricultural research grant administered on a competitive basis, and for relevancy and merit review of each agricultural research, extension, or education grant administered on a competitive basis, by the National Institute of Food and Agriculture (7 U.S.C. 7613(a)).

* * * * *

(clxx) [Reserved]

* * * * *

(clxxix) [Reserved]

* * * * *

(clxxxiv) Administer grants to assist the land-grant colleges and universities in insular areas to acquire, alter, or repair facilities or relevant equipment necessary for conducting agricultural research; and to support tropical and subtropical agricultural research, including pest and disease research (7 U.S.C. 3222b-2).

(clxxxv) Enter into agreements necessary to administer an Hispanic-Serving Agricultural Colleges and Universities Fund; enter into agreements necessary to administer a program of making annual payments to Hispanic-serving agricultural colleges and universities; administer an institutional capacity-building grants program for Hispanic-serving agricultural colleges and universities; administer a competitive grants program to fund fundamental and applied research and extension at Hispanic-serving agricultural colleges and universities and to award competitive grants to Hispanic-serving agricultural colleges and universities to provide for training in the food and agricultural sciences of Hispanic agricultural workers and Hispanic youth working in the food and agricultural sciences (7 U.S.C. 3243).

* * * * *

(clxxxviii) [Reserved]

* * * * *

(cxcvi) [Reserved]

* * * * *

(cxcix) [Reserved]

(cc) [Reserved]

* * * * *

(ccvi) Administer a food insecurity nutrition incentive program (7 U.S.C. 7517).

(ccvii) Administer a food and agriculture service learning grant program (7 U.S.C. 7633).

(ccviii) Administer a veterinary services grant program (7 U.S.C. 3151b).

(ccix) Enter into grants, contracts, cooperative agreements, or other legal instruments with former Department of Agriculture agricultural research facilities (7 U.S.C. 3315(b)).

(ccx) Administer a forestry and forestry products research and extension initiative (7 U.S.C. 7655b).

(ccxi) Submit to Congress an annual report describing agricultural research, extension, and education activities carried out by the Federal Government (7 U.S.C. 7614c(f)).

(ccxii) Enter into cooperative agreements with institutions of higher education regarding the dissemination of agricultural and food law research, legal tools, and information (7 U.S.C. 3125a-1).

* * * * *

(7) * * *

(i) * * *

(C) Research on the factors affecting food preference and habits (7 U.S.C. 3171-3173, 3175).

* * * * *

(8) * * *

(iii) [Reserved]

* * * * *

(xi) [Reserved]

* * * * *

(xviii) Coordinate implementation of section 10016 of the Agricultural Act of 2014 regarding locally or regionally produced agricultural food products (7 U.S.C. 2204h).

* * * * *

(b) * * *

(2) * * *

(i) Final approval and issuance of the crop and livestock reports.

* * * * *

10. Amend § 2.22 as follows:

a. Revise paragraphs (a)(1)(i), (a)(1)(ii)(C), and (a)(1)(viii)(CCC);

b. Remove and reserve paragraphs (a)(1)(viii)(MMM) and (a)(1)(viii)(PPP); c. Add new paragraphs (a)(1)(viii)(QQQ), (a)(1)(viii)(RRR), (a)(1)(viii)(SSS), and (a)(1)(xiii);

d. Revise paragraph (a)(2)(xli); and

e. Add new paragraph (a)(2)(xlii).

The additions and revisions read as follows:

§ 2.22 Under Secretary for Marketing and Regulatory Programs.

(a) * * *

(1) * * *

(i) Exercise the functions of the Secretary of Agriculture contained in the Agricultural Marketing Act of 1946, as amended (7 U.S.C. 1621-1627b), including payments to State Departments of Agriculture in connection with cooperative marketing service projects under section 204(b) (7 U.S.C. 1623(b)), but excepting matters otherwise assigned.

(ii) * * *

(C) Application of presently available scientific knowledge to the solution of practical problems encountered in the marketing of agricultural products (7 U.S.C. 1621-1627b).

* * * * *

(viii) * * *

(CCC) Farmers' Market Promotion Program (7 U.S.C. 3005).

* * * * *

(MMM) [Reserved]

* * * * *

(PPP) [Reserved]

(QQQ) Section 4213(c) of the Agricultural Act of 2014 (7 U.S.C. 1755b(c)).

(RRR) Section 12306 of the Agricultural Act of 2014 (7 U.S.C. 1632c).

(SSS) Section 506 of the Trade and Development Act of 2000 (7 U.S.C. 7101 note).

* * * * *

(xiii) Assist the Under Secretary for Research, Education, and Economics with implementing section 10016 of the Agricultural Act of 2014 regarding locally or regionally produced agricultural food products (7 U.S.C. 2204h).

(2) * * *

(xli) Section 1672(g)(3) of the Food, Agriculture, Conservation, and Trade Act of 1990 (7 U.S.C. 5925(g)(3)) regarding honey bee pest, pathogen, health, and population status surveillance.

(xlii) Section 12309 of the Agricultural Act of 2014 regarding produce represented as grown in the United States (19 U.S.C. 1304a).

* * * * *

§ 2.23 [Amended]

11. Amend § 2.23 by removing paragraph (a)(1)(v).

12. Amend § 2.24 as follows:

a. Remove and reserve paragraph (a)(3);

b. Remove paragraph (a)(4)(x)(Z);

c. Revise paragraph (a)(5);

d. Add new paragraphs (a)(6)(xix) and (a)(7)(xv); and

e. Remove paragraph (a)(13).

The additions and revisions read as follows:

§ 2.24 Assistant Secretary for Administration.

(a) * * *

(3) [Reserved]

* * * * *

(5) Related to small and disadvantaged business utilization. Provide general administrative support to the Office of Small and Disadvantaged Business Utilization, consistent with the other delegations of authority to the Assistant Secretary for Administration in this section.

(6) * * *

(xix) In coordination with the Chief Financial Officer, implement the debarment authorities in section 14211 of the Food, Conservation, and Energy Act of 2008 (7 U.S.C. 2009j), in connection with procurement activities.

* * * * *

(7) * * *

(xv) Serve as a lead agency in carrying out student internship programs (7 U.S.C. 2279c).

* * * * *

13. Amend § 2.25 by revising paragraph (a)(16)(i)(C), to read as follows:

§ 2.25 Assistant Secretary for Civil Rights.

(a) * * *

(16) * * *

(i) * * *

(C) To make final agency decisions, or enter into settlement agreements on EEO complaints by Department employees or applicants for employment and order such corrective measures in response to such complaints as may be considered necessary, except that in qualifying cases as described in § 2.31(a)(18) the Assistant Secretary for Civil Rights must first obtain legal sufficiency review and concurrence by the General Counsel before extending settlement offers or entering into settlement agreements. Corrective measures may include recommending to the Office of Human Resources Management and the affected agency or office that appropriate disciplinary action be taken when an employee has been found to have engaged in a discriminatory practice.

* * * * *

Subpart D—Delegations of Authority to Other General Officers and Agency Heads

14. Add § 2.28 to read as follows:

§ 2.28 Chief Financial Officer.

(a) The Chief Financial Officer, under the supervision of the Secretary of Agriculture, is responsible for executing the duties enumerated for agency Chief Financial Officers in the Chief Financial Officers Act of 1990, Public Law 101-576, 31 U.S.C. 902, and additional specified duties, including:

(1) Report directly to the Secretary regarding financial management matters.

(2) Oversee all financial management activities relating to the programs and operations of the Department and component agencies.

(3) Develop and maintain an integrated accounting and financial system for the Department and component agencies, including financial reporting and internal controls, which—

(i) Complies with applicable accounting principles, standards, and requirements, and internal control standards;

(ii) Complies with such policies and requirements as may be prescribed by the Director of the Office of Management and Budget (OMB);

(iii) Complies with any other requirements applicable to such systems; and

(iv) Provides for complete, reliable, consistent, and timely information which is prepared on a uniform basis and which is responsive to the financial information needs of Department management and for the development and reporting of cost information, the integration of accounting and budgeting information, and the systematic measurement of performance.

(4) Make recommendations to the Secretary regarding the selection of the Deputy Chief Financial Officer of the Department, and selection of principal financial officers of component agencies of the Department.

(5) Direct, manage, and provide policy guidance and oversight of Department financial management personnel, activities, and operations, including:

(i) Prepare and annually revise a Departmental plan to:

(A) Implement the 5-year financial management plan prepared by the Director of OMB under 31 U.S.C. 3512(a)(3); and

(B) Comply with the requirements established for agency financial statements under 31 U.S.C. 3515 and with the requirements for audits of Department financial statements established in 31 U.S.C. 3521(e) and (f).

(ii) Develop Departmental financial management budgets, including the oversight and recommendation of approval of component agency financial management budgets.

(iii) Recruit, select, and train personnel to carry out Departmental financial management functions.

(iv) Approve and manage Departmental, and approve component agency, financial management systems design or enhancement projects.

(v) Implement and approve Departmental, and approve component agency, asset management systems, including systems for cash management, credit management, debt collection, and property and inventory management and control.

(6) Prepare and transmit, by not later than 60 days after the submission of the audit report required by 31 U.S.C. 3521(f), an annual report to the Secretary and the Director of OMB, which shall include:

(i) A description and analysis of the status of financial management of the Department.

(ii) The annual financial statements prepared under 31 U.S.C. 3521.

(iii) The audit report transmitted to the Secretary under 31 U.S.C. 3521.

(iv) A summary of the reports on internal accounting and administrative control systems submitted to the President and the Congress under the amendments made by the Federal Managers' Financial Integrity Act of 1982 (31 U.S.C. 1113, 3512).

(v) Other information the Secretary considers appropriate to inform fully the President and the Congress concerning the financial management of the Department.

(7) Monitor the financial execution of the budget of the Department in relation to projected and actual expenditures, and prepare and submit to the Secretary timely performance reports.

(8) Review, on a biennial basis, the fees, royalties, rent, and other charges imposed by the Department for services and things of value it produces, and make recommendations on revising those charges to reflect costs incurred by the Department in providing those services and things of value.

(9) Access all records, reports, audits, reviews, documents, papers, recommendations, or other material that are the property of the Department or that are available to the Department, and that relate to programs and operations with respect to which the Chief Financial Officer has responsibilities, except that this grant allows no access greater than that permitted under any other law to records, reports, audits, reviews, documents, papers, recommendations, or other material of the Office of Inspector General.

(10) Request such information or assistance as may be necessary for carrying out the duties and responsibilities granted by the Chief Financial Officers Act of 1990 (Pub. L. 101-576), from any Federal, State, or local governmental entity.

(11) To the extent and in such amounts as may be provided in advance by appropriations acts, enter into contracts and other arrangements with public agencies and with private persons for the preparation of financial statements, studies, analyses, and other services, and making such payments as may be necessary to carry out the duties and prerogatives of the Chief Financial Officer.

(12) Designate the Department's Comptroller of the Department Working Capital Fund.

(13) Establish Departmental policies, standards, techniques, and procedures applicable to all USDA agencies for the following areas:

(i) Development, maintenance, review and approval of all departmental, and review and approval of component agency, internal control, fiscal, financial management and accounting systems including the financial aspects of payment management and property systems.

(ii) Selection, standardization, and simplification of program delivery processes utilizing grants, cooperative agreements and other forms of Federal assistance.

(iii) Review and approval of Federal assistance, internal control, fiscal, accounting and financial management regulations and instructions proposed or issued by USDA agencies for conformity with Departmental requirements.

(iv) Section 5301 of the Anti-Drug Abuse Act of 1988 (21 U.S.C. 862) as it relates to grants, loans, and licenses.

(14) Establish policies related to the Department Working Capital Fund.

(15) Approve regulations, procedures and rates for goods and services financed through the Department Working Capital Fund which will impact the financial administration of the Fund.

(16) Exercise responsibility and authority for operating USDA's financial and subsidiary management systems and related administrative systems including: Departmentwide payroll and personnel information systems, statistics, administrative payments, billings and collections, and related reporting systems that are either requested by the agencies or required by the Department.

(17) Manage the National Finance Center (NFC).

(18) Provide management support services for the NFC, and by agreement with agency heads concerned, provide such services for other USDA tenants housed in the same facility. As used herein, such management support services shall include:

(i) Personnel services, as listed in § 2.24(a)(4)(x), and organizational support services, with authority to take actions required by law or regulation to perform such services; and

(ii) Procurement, property management, space management, communications, messenger, paperwork management, and related administrative services, with authority to take actions required by law or regulation to perform such services.

(19) Exercise responsibility and authority for all matters related to the Department's accounting and financial operations including such activities as:

(i) Financial administration, including accounting and related activities.

(ii) Reviewing financial aspects of agency operations and proposals.

(iii) Furnishing consulting services to agencies to assist them in developing and maintaining accounting and financial management systems and internal controls, and for other purposes consistent with delegations in paragraph (a)(13) of this section.

(iv) Reviewing and monitoring agency implementation of Federal assistance policies.

(v) Reviewing and approving agencies' accounting systems documentation including related development plans, activities, and controls.

(vi) Monitoring agencies' progress in developing and revising accounting and financial management systems and internal controls.

(vii) Evaluating agencies' financial systems to determine the effectiveness of procedures employed, compliance with regulations, and the appropriateness of policies and practices.

(viii) Promulgation of Department schedule of fees and charges for reproductions, furnishing of copies and making searches for official records pursuant to the Freedom of Information Act, 5 U.S.C. 552.

(ix) Monitoring USDA implementation of section 5301 of the Anti-Drug Abuse Act of 1988 (21 U.S.C. 862) as it relates to grants, loans, and licenses.

(20) Establish Department and approve component agency programs, policies, standards, systems, techniques and procedures to improve the management and operational efficiency and effectiveness of the USDA including:

(i) Increased use of operations research and management science in the areas of productivity and management.

(ii) All activities financed through the Department Working Capital Fund.

(21) Develop Departmental policies, standards, techniques, and procedures for the conduct of reviews and analysis of the utilization of the resources of State and local governments, other Federal agencies and of the private sector in domestic program operations.

(22) Represent the Department in contacts with OMB, General Services Administration, GAO, Department of the Treasury, Office of Personnel Management, Department of Health and Human Services, Department of Labor, Environmental Protection Agency, Department of Commerce, Congress of the United States, State and local governments, universities, and other public and private sector individuals, organizations or agencies on matters related to assigned responsibilities.

(23) Establish policies related to travel by USDA employees.

(24) Provide budget, accounting, fiscal, and related financial management services, with authority to take action required by law or regulation to provide such services for:

(i) The Secretary of Agriculture.

(ii) The general officers of the Department, except the Inspector General.

(iii) The offices and agencies reporting to the Assistant Secretary for Administration as a Working Capital Fund activity.

(iv) Any other offices or agencies of the Department as may be agreed.

(25) Develop, promulgate, and coordinate Department-wide policy concerning nonprocurement debarment and suspension.

(26) Prepare and submit to Congress reports on conferences sponsored or held by the Department or attended by employees of the Department (7 U.S.C. 2255b).

(27) Administer the debarment authorities in section 14211 of the Food, Conservation, and Energy Act of 2008 (7 U.S.C. 2209j) in coordination with the Director, Office of Procurement and Property Management.

(28) Redelegate, as appropriate, any authority delegated under this section to general officers of the Department and heads of Departmental agencies.

(b) [Reserved]

15. Amend § 2.29 as follows:

a. Remove paragraph (a)(11)(ix); and

b. Add new paragraphs (a)(14)(iii) and (b).

The additions read as follows:

§ 2.29 Chief Economist.

(a) * * *

(14) * * *

(iii) Make competitive grants to, or enter into cooperative agreements with, agricultural and food policy research centers (7 U.S.C. 3155).

(b) [Reserved]

16. Add § 2.30 to read as follows:

§ 2.30 Director, Office of Budget and Program Analysis.

(a) The following delegations of authority are made by the Secretary of Agriculture to the Director, Office of Budget and Program Analysis:

(1) Serve as the Department's Budget Officer and exercise general responsibility and authority for all matters related to the Department's budgeting affairs including:

(i) Resource administration, including all phases of the acquisition, and distribution of funds and staff years.

(ii) Legislative and regulatory reporting and related activities.

(2) Provide staff assistance for the Secretary, general officers, and other Department and agency officials.

(3) Formulate and promulgate Departmental budgetary, legislative and regulatory policies and procedures.

(4) Represent the Department in contacts with the Office of Management and Budget, the Government Accountability Office, the Department of the Treasury, Congressional Committees on Appropriations, and other organizations and agencies on matters related to his or her responsibility.

(5) Coordinate and/or conduct policy and program analyses on agency operations and proposals to assist the Secretary, general officers and other Department and agency officials in formulating and implementing USDA policies and programs.

(6) Review and analyze legislation, regulations, and policy options to determine their impact on USDA programs and policy objectives and on the Department's budget.

(7) Monitor ongoing studies with significant program or policy implications.

(8) Exercise responsibility for coordinating and overseeing the implementation of the Government Performance and Results Act of 1993, Public Law 103-62, and the GPRA Modernization Act of 2010, Public Law 111-352, at the Department.

(b) The following authority is reserved to the Secretary of Agriculture: Final approval of the Department's program and financial plans.

17. Amend § 2.31 by adding new paragraph (a)(18), to read as follows:

§ 2.31 General Counsel.

(a) * * *

(18) Conduct legal sufficiency reviews and concur prior to final implementation for all Equal Employment Opportunity (EEO) settlement offers and agreements involving complaints that:

(i) Are brought by, or allege discriminatory conduct by, any political appointee;

(ii) Involve any combination of compensatory damages, attorney's fees, back pay awards, or any other compensation resulting in costs to the Department totaling $200,000 or more; or

(iii) Place any political appointee on a detail outside the Department or on an Intergovernmental Personnel Act (IPA) agreement for one year or more if the Department retains the obligation to pay the employee's salary and benefits during the duration of the detail or IPA agreement.

* * * * *

18. Amend § 2.34 by revising the introductory text to read as follows:

§ 2.34 Director, National Appeals Division.

The Director, National Appeals Division, under the general supervision of the Secretary or Deputy Secretary, has specific duties, responsibilities, and authorities pursuant to subtitle H of the Department of Agriculture Reorganization Act of 1994, Public Law 103-354 (7 U.S.C. 6991 et seq.), including:

* * * * *

19. Add § 2.37 to subpart D to read as follows:

§ 2.37 Director, Office of Small and Disadvantaged Business Utilization.

(a) In compliance with the Small Business Act, the Director, Office of Small and Disadvantaged Business Utilization is designated as the Department's Director of Small and Disadvantaged Business Utilization, who shall report directly to the Secretary of Agriculture or the Deputy Secretary of Agriculture. The Director of Small and Disadvantaged Business Utilization has specific responsibilities under the Small Business Act, 15 U.S.C. 644(k). These duties include being responsible for the following:

(1) Administer the Department's small and disadvantaged business activities related to procurement contracts, minority bank deposits, and grants and loan activities affecting small and minority businesses including women-owned business, and the small business, small minority business, and small women-owned business subcontracting programs.

(2) Provide Departmentwide liaison and coordination of activities related to small, small disadvantaged, and women-owned businesses with the Small Business Administration and others in the public and private sector.

(3) Develop policies and procedures required by the applicable provision of the Small Business Act, as amended, to include the establishment of goals.

(4) Implement and administer programs described under sections 8 and 15 of the Small Business Act, as amended (15 U.S.C. 637 and 644).

(5) In compliance with the Veterans Benefits Act of 2003 (Pub. L. 108-183) amending the Small Business Act, implement and administer procurement programs for small business concerns owned and controlled by service-disabled veterans.

(b) The following additional authorities are delegated by the Secretary of Agriculture to the Director, Office of Small and Disadvantaged Business Utilization:

(1) In compliance with the Javits-Wagner-O'Day Act (41 U.S.C. 8501 et seq.), implement and administer the Department's AbilityOne program for purchases from qualified nonprofit agencies for the blind or for the severely disabled.

(2) [Reserved]

20. Add § 2.38 to subpart D to read as follows:

§ 2.38 Director, Office of Tribal Relations.

(a) Delegations. The following delegations of authority are made by the Secretary of Agriculture to the Director, Office of Tribal Relations:

(1) Serve as the Department's primary point of contact for tribal issues.

(2) Advise the Secretary on policies related to Indian tribes.

(3) Serve as the official with principal responsibility for the implementation of Executive Order 13175, “Consultation and Coordination with Indian Tribal Governments,” including the provision of Department-wide guidance and oversight regarding tribal consultation, coordination, and collaboration.

(4) Coordinate the Department's programs involving assistance to American Indians and Alaska Natives.

(5) Enter into cooperative agreements to improve the coordination and effectiveness of Federal programs, services, and actions affecting rural areas (7 U.S.C. 2204b(b)(4)); and to provide outreach and technical assistance to socially disadvantaged farmers and ranchers and veteran farmers and ranchers (7 U.S.C. 2279(a)(3)).

(b) [Reserved]

Subpart F—Delegations of Authority by the Under Secretary for Farm and Foreign Agricultural Services

21. Amend § 2.42 as follows:

a. Revise paragraphs (a)(20), (a)(28)(iii), (a)(28)(viii), (a)(28)(ix), and (a)(28)(x);

b. Add new paragraph (a)(28)(xiii);

c. Revise paragraph (a)(45);

d. Remove and reserve paragraphs (a)(52), (a)(53), (a)(56)(i), (a)(56)(iii), (a)(56)(iv), (a)(56)(vi), and (a)(56)(vii); and

e. Add new paragraphs (a)(58) and (a)(59).

The additions and revisions read as follows:

§ 2.42 Administrator, Farm Service Agency.

(a) * * *

* * * * *

(20) Formulate and carry out the Conservation Reserve Program, including the implementation of technical assistance, under the Food Security Act of 1985, as amended (16 U.S.C. 1231 et seq.), and the functions of the Grassland Reserve Program transferred to the Conservation Reserve Program.

* * * * *

(28) * * *

(iii) Section 306A (7 U.S.C. 1926a) and section 306B (7 U.S.C. 1926b), relating to the Emergency Community Water Assistance Grant Programs, and section 306D (7 U.S.C. 1926d), relating to water systems for rural Alaskan Native Villages;

* * * * *

(viii) Section 310C (7 U.S.C. 1933), relating to housing program interest rates;

(ix) Section 310G (7 U.S.C. 1936a), relating to the use of rural development loans and grants for other purposes, and section 353A (7 U.S.C. 2001a), relating to the servicing of community facilities loans;

(x) Section 364 (7 U.S.C. 2006f) and section 365 (7 U.S.C. 2008);

* * * * *

(xiii) Sections 379 (7 U.S.C. 2008n) through 379G (7 U.S.C. 2008u) and subtitles E through I (7 U.S.C. 2009-2009dd-7) relating to rural development programs and activities.

* * * * *

(45) Administer all programs of the Commodity Credit Corporation that provide assistance with respect to the production of agricultural commodities or the income of producers, including disaster assistance and the domestic marketing of such commodities, except as may otherwise be reserved by the Under Secretary for Farm and Foreign Agricultural Services, and similar programs (including commodity quality development programs) consigned by statute to the Secretary of Agriculture unless otherwise delegated.

* * * * *

(52) [Reserved]

(53) [Reserved]

* * * * *

(56) * * *

(i) [Reserved]

* * * * *

(iii) [Reserved]

(iv) [Reserved]

* * * * *

(vi) [Reserved]

(vii) [Reserved]

* * * * *

(58) Administer the following provisions of the Agricultural Act of 2014, Public Law 113-79:

(i) Sections 1401-1410 relating to a margin protection program for dairy producers (7 U.S.C. 9051-9060), and section 1431 relating to a dairy product donation program (7 U.S.C. 9071).

(ii) Section 1612 relating to the tracking of benefits (7 U.S.C. 9095).

(iii) Section 12314 relating to the Pima Agriculture Cotton Trust Fund (7 U.S.C. 2101 note), in coordination with the Administrator, Foreign Agricultural Service.

(iv) Section 12315 relating to the Agriculture Wool Apparel Manufacturers Trust Fund (7 U.S.C. 7101 note), in coordination with the Administrator, Foreign Agricultural Service.

(59) Enter into cooperative agreements under section 1472(b) of the National Agricultural Research, Extension, and Teaching Policy Act of 1977 (7 U.S.C. 3318(b)) for the purpose of implementing section 1614(c)(3) of the Agricultural Act of 2014 (7 U.S.C. 9097(c)).

* * * * *

22. Amend § 2.43 as follows:

a. Revise paragraphs (a)(16) and (a)(17);

b. Remove and reserve paragraphs (a)(18) and (a)(19); and

c. Add new paragraph (a)(50).

The additions and revisions read as follows:

§ 2.43 Administrator, Foreign Agricultural Service.

(a) * * *

(16) Perform functions of the Department in connection with the development and implementation of agreements to finance the sale and exportation of agricultural commodities on long-term credit or for foreign currencies under the Food for Peace Act (7 U.S.C. 1691, 1701 et seq.).

(17) Coordinate within the Department activities arising under the Food for Peace Act (except as delegated to the Under Secretary for Research, Education, and Economics in § 2.21(a)(8)), and to represent the Department in its relationships in such matters with the Department of State, any interagency committee on the Food for Peace Act, and other departments, agencies, and committees of the Government.

(18) [Reserved]

(19) [Reserved]

* * * * *

(50) Administer the following provisions of the Agricultural Act of 2014, Public Law 113-79:

(i) Section 12314 relating to the Pima Agriculture Cotton Trust Fund (7 U.S.C. 2101 note), in coordination with the Administrator, Farm Service Agency.

(ii) Section 12315 relating to the Agriculture Wool Apparel Manufacturers Trust Fund (7 U.S.C. 7101 note), in coordination with the Administrator, Farm Service Agency.

* * * * *

23. Amend § 2.44 by adding new paragraphs (a)(5), (a)(6), (a)(7), and (a)(8), to read as follows:

§ 2.44 Administrator, Risk Management Agency and Manager, Federal Crop Insurance Corporation

(a) * * *

(5) Carry out functions relating to highly erodible land and wetland conservation under sections 1211-1213 and 1221-1223 of the Food Security Act of 1985, as amended (16 U.S.C. 3811-3813 and 3821-3823).

(6) Prepare cropland reports as required by section 11014(c) of the Agricultural Act of 2013, Public Law 113-79.

(7) Assist the Administrator, Economic Research Service with implementing section 10016 of the Agricultural Act of 2014 regarding locally or regionally produced agricultural food products (7 U.S.C. 2204h).

(8) Administer the Federal Crop Insurance Act (7 U.S.C. 1501, et seq.), except for sections 524(a)(1)(B), (a)(3), and (b) (7 U.S.C. 1524(a)(1)(B), (a)(3), (b)) and 531 (7 U.S.C. 1531).

* * * * *

Subpart G—Delegations of Authority by the Under Secretary for Rural Development

24. Revise § 2.45 to read as follows:

§ 2.45 Deputy Under Secretary for Rural Development.

Pursuant to § 2.17(a), subject to reservations in § 2.17(b), and subject to policy guidance and direction by the Under Secretary for Rural Development, the following delegation of authority is made to the Deputy Under Secretary for Rural Development, to be exercised only during the absence or unavailability of the Under Secretary: Perform all the duties and exercise all the powers which are now or which may hereafter be delegated to the Under Secretary for Rural Development: Provided, that this authority shall be exercised first by the Deputy Under Secretary for Policy and Planning, and second by the Deputy Under Secretary for Operations and Management.

25. Amend § 2.47 as follows:

a. Revise the introductory text in paragraph (a);

b. Remove and reserve paragraphs (a)(4)(xii) and (a)(15); and

c. Add new paragraphs (a)(17) and (a)(18).

The additions and revisions read as follows:

§ 2.47 Administrator, Rural Utilities Service.

(a) Delegations. Pursuant to §§ 2.17(a)(14) and (a)(16) through (a)(20), and subject to policy guidance and direction by the Under Secretary for Rural Development, the following delegations of authority are made by the Under Secretary for Rural Development to the Administrator, Rural Utilities Service:

* * * * *

(4) * * *

(xii) [Reserved]

* * * * *

(15) [Reserved]

* * * * *

(17) Administer section 6407 of the Farm Security and Rural Investment Act of 2002 (7 U.S.C. 8107a), relating to a rural energy savings program.

(18) Administer section 6210 of the Agricultural Act of 2014, Public Law 113-79, relating to funding of pending rural development loan and grant applications.

* * * * *

26. Amend § 2.48 as follows:

a. Revise the introductory text of paragraph (a) and paragraph (a)(2)(v);

b. Remove and reserve paragraph (a)(4); and

c. Add new paragraphs (a)(33) and (a)(34).

The additions and revisions read as follows:

§ 2.48 Administrator, Rural Business-Cooperative Service.

(a) Delegations. Pursuant to §§ 2.17(a)(1), (a)(2), (a)(14), (a)(16) through (a)(19), and (a)(21), subject to reservations in § 2.17(b)(1), and subject to policy guidance and direction by the Under Secretary for Rural Development, the following delegations of authority are made by the Under Secretary for Rural Development to the Administrator, Rural Business-Cooperative Service:

* * * * *

(2) * * *

(v) Section 310H (7 U.S.C. 1936b), relating to an intermediary relending program.

* * * * *

(4) [Reserved]

* * * * *

(33) Administer the Healthy Food Financing Initiative under section 243 of the Department of Agriculture Reorganization Act of 1994 (7 U.S.C. 6953).

(34) Administer section 6209 of the Agricultural Act of 2014 (7 U.S.C. 2207b), relating to the collection and reporting of program metrics.

* * * * *

27. Amend § 2.49 by revising the introductory text of paragraph (a), to read as follows:

§ 2.49 Administrator, Rural Housing Service.

(a) Delegations. Pursuant to §§ 2.17(a)(14), (a)(16) through (a)(19) and (a)(22), and subject to policy guidance and direction by the Under Secretary for Rural Development, the following delegations of authority are made by the Under Secretary for Rural Development to the Administrator, Rural Housing Service:

* * * * *

Subpart I—Delegations of Authority by the Under Secretary for Food, Nutrition, and Consumer Services

28. Amend § 2.57 as follows:

a. Remove paragraph (a)(1)(xiii); and

b. Add new paragraphs (a)(15) and (a)(16)

The additions read as follows:

§ 2.57 Administrator, Food and Nutrition Service.

(a) * * *

(15) Administer the following provisions of the Agricultural Act of 2014, Public Law 113-79:

(i) Section 4004(b), relating to a demonstration project regarding the Food Distribution Program on Indian Reservations (7 U.S.C. 2013 note).

(ii) Section 4031, relating to a Commonwealth of the Northern Mariana Islands pilot program regarding the Supplemental Nutrition Assistance Program (48 U.S.C. 1841 note).

(iii) Section 4032, relating to annual State reporting on verification of Supplemental Nutrition Assistance Program participation (7 U.S.C. 2036c).

(iv) Section 4033, relating to service of traditional foods in public facilities (25 U.S.C. 443d).

(v) Section 4214, relating to a pilot project for canned, frozen, or dried fruits and vegetables as part of the Fresh Fruit and Vegetable Program under the Richard B. Russell National School Lunch Act (42 U.S.C. 1769a note).

(16) Administer section 301 of the National Nutrition Monitoring and Related Research Act of 1990, relating to the Dietary Guidelines for Americans (7 U.S.C. 5341).

* * * * *

Subpart J—Delegations of Authority by the Under Secretary for Natural Resources and Environment

29. Amend § 2.60 as follows:

a. Revise paragraph (a)(28);

b. Remove and reserve paragraph (a)(45);

c. Revise paragraph (a)(48);

d. Remove and reserve paragraph (a)(52);

e. Revise paragraph (a)(53); and

f. Add new paragraphs (a)(55), (a)(56), (a)(57), (a)(58), (a)(59), and (a)(60).

The additions and revisions read as follows:

§ 2.60 Chief, Forest Service.

(a) * * *

(28) Represent USDA in all matters relating to responsibilities and authorities under the Federal Power Act (16 U.S.C. 791a-823).

* * * * *

(45) [Reserved]

* * * * *

(48) Establish programs with any bureau of the U.S. Department of the Interior (DOI) in support of the Service First initiative for the purpose of promoting customer service and efficiency including delegating to DOI employees those authorities of the U.S. Department of Agriculture (USDA) necessary to carry out projects on behalf of USDA (43 U.S.C. 1703).

* * * * *

(52) [Reserved]

(53) Administer the community wood energy program providing grants to develop community wood energy plans, acquire or upgrade community wood energy systems, and establish or expand biomass consumer cooperatives (7 U.S.C. 8113).

* * * * *

(55) Administer the programs authorized by the Healthy Forests Restoration Act of 2003 (16 U.S.C. 6501 et seq.), except for the Healthy Forests Reserve Program authorized in title V of such act (16 U.S.C. 6571-6578).

(56) Administer Good Neighbor contracts and cooperative agreements with a State to carry out forest, rangeland, and watershed restoration services on National Forest System lands (16 U.S.C. 2113a; Public Law 106-291, section 331, as amended).

(57) Utilize the Agriculture Conservation Experienced Services (ACES) Program (16 U.S.C. 3851) to provide technical services for conservation-related programs and authorities carried out on National Forest System lands (16 U.S.C. 3851a).

(58) Administer reimbursements received for fire suppression (16 U.S.C. 1856e; 42 U.S.C. 1856d(b)).

(59) Administer the large airtanker and aerial asset lease program (16 U.S.C. 551c).

(60) Provide technical and other assistance with respect to eligibility of forest products for the “USDA Certified Biobased Products” labeling program (7 U.S.C. 8102(g)).

* * * * *

30. Amend § 2.61 as follows:

a. Add new paragraphs (a)(13)(xix), (a)(13)(xx), (a)(13)(xxi), and (a)(13)(xxii); b. Remove and reserve paragraph (a)(16); and

c. Add new paragraph (a)(30).

The additions and revisions read as follows:

§ 2.61 Chief, Natural Resources Conservation Service.

(a) * * *

(13) * * *

(xix) The Agricultural Conservation Easement Program authorized by sections 1265-1265D of the Act (16 U.S.C. 3865-3865d).

(xx) The Regional Conservation Partnership Program authorized by sections 1271-1271F (16 U.S.C. 3871-3871f).

(xxi) The Voluntary Public Access and Habitat Incentive Program authorized by section 1240R of the Act (16 U.S.C. 3839bb-5).

(xxii) A wetlands mitigation banking program authorized by section 1222(k) of the Act (16 U.S.C. 3822(k)).

* * * * *

(16) [Reserved]

* * * * *

(30) Administer the Terminal Lakes assistance program authorized by section 2507 of the Farm Security and Rural Investment Act of 2002 (16 U.S.C. 3839bb-6).

* * * * *

Subpart K—Delegations of Authority by the Under Secretary for Research, Education, and Economics

31. Amend § 2.65 as follows:

a. Revise paragraph (a)(15);

b. Remove and reserve paragraphs (a)(16), (a)(25), (a)(30), (a)(34), (a)(35), (a)(36), (a)(37), (a)(53), and (a)(55);

c. Revise paragraph (a)(58);

d. Remove and reserve paragraph (a)(61);

e. Revise the introductory text of paragraph (a)(64) and (a)(64)(iii);

f. Remove and reserve paragraphs (a)(82) and (a)(83);

g. Revise paragraph (a)(113); and

h. Add new paragraphs (a)(114) and (a)(115).

The additions and revisions read as follows:

§ 2.65 Administrator, Agricultural Research Service.

(a) * * *

(15) Conduct a Special Cotton Research Program designed to reduce the cost of producing upland cotton in the United States (7 U.S.C. 1444a(c)).

(16) [Reserved]

* * * * *

(25) [Reserved]

* * * * *

(30) [Reserved]

* * * * *

(34) [Reserved]

(35) [Reserved]

(36) [Reserved]

(37) [Reserved]

* * * * *

(53) [Reserved]

* * * * *

(55) [Reserved]

* * * * *

(58) Administer the Department's Patent Program except as delegated to the General Counsel in § 2.31(a)(5).

* * * * *

(61) [Reserved]

* * * * *

(64) Administer a National Food and Human Nutrition Research Program under the National Agricultural Research, Extension, and Teaching Policy Act of 1977, as amended. As used herein the term “research” includes:

* * * * *

(iii) Research on the factors affecting food preference and habits (7 U.S.C. 3171-3173, 3175).

* * * * *

(82) [Reserved]

(83) [Reserved]

* * * * *

(113) Carry out pollinator health research activities (7 U.S.C. 5925(g)(2)).

(114) Enter into grants, contracts, cooperative agreements, or other legal instruments with former Department of Agriculture agricultural research facilities (7 U.S.C. 3315(b)).

(115) Enter into cooperative agreements with institutions of higher education regarding the dissemination of agricultural and food law research, legal tools, and information (7 U.S.C. 3125a-1).

* * * * *

32. Amend § 2.66 as follows:

a. Revise paragraph (a)(6);

b. Remove and reserve paragraph (a)(16);

c. Revise paragraphs (a)(17) and (a)(18);

d. Remove and reserve paragraphs (a)(21), (a)(34), (a)(35), (a)(36), and (a)(39);

e. Revise paragraph (a)(42);

f. Remove and reserve paragraph (a)(43);

g. Revise paragraphs (a)(44) and (a)(57);

h. Remove and reserve paragraphs (a)(64), (a)(65), and (a)(73);

i. Revise paragraph (a)(78);

j. Remove and reserve paragraphs (a)(79), (a)(80), and (a)(81);

k. Revise paragraph (a)(83);

l. Remove and reserve paragraphs (a)(91) and (a)(96);

m. Revise paragraph (a)(102);

n. Remove and reserve paragraphs (a)(105) and (a)(109);

o. Revise paragraph (a)(121);

p. Remove and reserve paragraph (a)(137);

q. Revise paragraphs (a)(143) and (a)(144);

r. Remove and reserve paragraphs (a)(147), (a)(152), (a)(154), and (a)(155); and

s. Add new paragraphs (a)(161), (a)(162), (a)(163), (a)(164), and (a)(165).

The additions and revisions read as follows:

§ 2.66 Director, National Institute of Food and Agriculture.

(a) * * *

(6) Carry out a program (IR-4 Program) for the collection of residue and efficacy data in support of registration or reregistration of pesticides for minor agricultural use and for use on specialty crops, and to determine tolerances for minor use chemical residues in or on agricultural commodities (7 U.S.C. 450i(e)).

* * * * *

(16) [Reserved]

(17) Administer and direct an Animal Health and Disease Research Program under the National Agricultural Research, Extension, and Teaching Policy Act of 1977, as amended (7 U.S.C. 3191-3201).

(18) Support continuing agricultural and forestry extension and research, at 1890 land-grant institutions, including Tuskegee University (7 U.S.C. 3221, 3222, 3222d).

* * * * *

(21) [Reserved]

* * * * *

(34) [Reserved]

(35) [Reserved]

(36) [Reserved]

* * * * *

(39) [Reserved]

* * * * *

(42) Administer a competitive high priority research and extension grants program in specified subject areas (7 U.S.C. 5925), including pollinator activities (7 U.S.C. 5925(g)) not otherwise delegated to the Administrator, Agricultural Research Service in § 2.65(a)(113) and the Administrator, Animal and Plant Health Inspection Service in § 2.80(a)(47).

(43) [Reserved]

(44) Administer competitive grants to support research, education, and extension activities regarding organically grown and processed agricultural commodities (7 U.S.C. 5925b).

* * * * *

(57) Represent the Department on the Federal Interagency Committee on Education.

* * * * *

(64) [Reserved]

(65) [Reserved]

* * * * *

(73) [Reserved]

* * * * *

(78) Develop and make available handbooks, technical guides, and other educational materials emphasizing sustainable agriculture production systems and practices; carry out activities related to a national training program for sustainable agriculture (7 U.S.C. 5831, 5832).

(79) [Reserved]

(80) [Reserved]

(81) [Reserved]

* * * * *

(83) Conduct education and extension programs related to nutrition education (7 U.S.C. 2027(a)).

* * * * *

(91) [Reserved]

* * * * *

(96) [Reserved]

* * * * *

(102) Implement and administer the Community Food Projects Program under section 25 of the Food and Nutrition Act of 2008 (7 U.S.C. 2034).

* * * * *

(105) [Reserved]

* * * * *

(109) [Reserved]

* * * * *

(121) Establish procedures that provide for scientific peer review of each agricultural research grant administered on a competitive basis, and for relevancy and merit review of each agricultural research, extension, or education grant administered on a competitive basis, by the National Institute of Food and Agriculture (7 U.S.C. 7613(a)).

* * * * *

(137) [Reserved]

* * * * *

(143) Administer grants to assist the land-grant colleges and universities in insular areas to acquire, alter, or repair facilities or relevant equipment necessary for conducting agricultural research; and to support tropical and subtropical agricultural research, including pest and disease research (7 U.S.C. 3222b-2).

(144) Enter into agreements necessary to administer an Hispanic-Serving Agricultural Colleges and Universities Fund; enter into agreements necessary to administer a program of making annual payments to Hispanic-serving agricultural colleges and universities; administer an institutional capacity-building grants program for Hispanic-serving agricultural colleges and universities; administer a competitive grants program to fund fundamental and applied research and extension at Hispanic-serving agricultural colleges and universities and to award competitive grants to Hispanic-serving agricultural colleges and universities to provide for training in the food and agricultural sciences of Hispanic agricultural workers and Hispanic youth working in the food and agricultural sciences (7 U.S.C. 3243).

* * * * *

(147) [Reserved]

* * * * *

(152) [Reserved]

* * * * *

(154) [Reserved]

(155) [Reserved]

* * * * *

(161) Enter into agreements with and receive funds from any State, other political subdivision, organization, or individual for the purpose of conducting cooperative research projects (7 U.S.C. 450a).

(162) Administer a food insecurity nutrition incentive program (7 U.S.C. 7517).

(163) Administer a food and agriculture service learning grant program (7 U.S.C. 7633).

(164) Administer a veterinary services grant program (7 U.S.C. 3151b).

(165) Administer a forestry and forestry products research and extension initiative (7 U.S.C. 7655b).

* * * * *

33. Amend § 2.67 as follows:

a. Remove and reserve paragraphs (a)(3) and (a)(7); and

b. Add new paragraphs (a)(21) and (a)(22).

The additions and revisions read as follows:

§ 2.67 Administrator, Economic Research Service.

(a) * * *

(3) [Reserved]

* * * * *

(7) [Reserved]

* * * * *

(21) Enter into agreements with and receive funds from any State, other political subdivision, organization, or individual for the purpose of conducting cooperative research projects (7 U.S.C. 450a).

(22) Coordinate implementation of section 10016 of the Agricultural Act of 2014 regarding locally or regionally produced agricultural food products (7 U.S.C. 2204h).

* * * * *

34. Amend § 2.68 by adding new paragraph (a)(13) to read as follows:

§ 2.68 Administrator, National Agricultural Statistics Service.

(a) * * *

(13) Assist the Administrator, Economic Research Service with implementing section 10016 of the Agricultural Act of 2014 regarding locally or regionally produced agricultural food products (7 U.S.C. 2204h).

* * * * *

Subpart L—Delegations of Authority by the Chief Economist

§ 2.73 [Amended]

35. Amend § 2.73 by removing paragraph (a)(10).

Subpart N—Delegations of Authority by the Under Secretary for Marketing and Regulatory Programs

36. Amend § 2.79 as follows:

a. Revise paragraphs (a)(1), (a)(2)(iii), and (a)(8)(lxiii);

b. Remove and reserve paragraphs (a)(8)(lxxiii) and (a)(8)(lxxvi); and

c. Add new paragraphs (a)(8)(lxxvii), (a)(8)(lxxviii), (a)(8)(lxxix), and (a)(15).

The additions and revisions read as follows:

§ 2.79 Administrator, Agricultural Marketing Service.

(a) * * *

(1) Exercise the functions of the Secretary of Agriculture contained in the Agricultural Marketing Act of 1946, as amended (7 U.S.C. 1621-1627b), including payments to State Departments of Agriculture in connection with cooperative marketing service projects under section 204(b) (7 U.S.C. 1623(b)), but excepting matters otherwise assigned.

(2) * * *

(iii) Application of presently available scientific knowledge to the solution of practical problems encountered in the marketing of agricultural products (7 U.S.C. 1621-1627b).

* * * * *

(8) * * *

(lxiii) Farmers' Market Promotion Program (7 U.S.C. 3005).

* * * * *

(lxxiii) [Reserved]

* * * * *

(lxxvi) [Reserved]

(lxxvii) Section 4213(c) of the Agricultural Act of 2014 (7 U.S.C. 1755b(c)).

(lxxviii) Section 12306 of the Agricultural Act of 2014 (7 U.S.C. 1632c).

(lxxix) Section 506 of the Trade and Development Act of 2000 (7 U.S.C. 7101 note).

* * * * *

(15) Assist the Administrator, Economic Research Service with implementing section 10016 of the Agricultural Act of 2014 regarding locally or regionally produced agricultural food products (7 U.S.C. 2204h).

* * * * *

37. Amend § 2.80 as follows:

b. Revise paragraph (a)(47); and

b. Add new paragraph (a)(48).

The revision and addition read as follows:

§ 2.80 Administrator, Animal and Plant Health Inspection Service.

(a) * * *

(47) Section 1672(g)(3) of the Food, Agriculture, Conservation, and Trade Act of 1990 (7 U.S.C. 5925(g)(3)) regarding honey bee pest, pathogen, health, and population status surveillance.

(48) Section 12309 of the Agricultural Act of 2014 regarding produce represented as grown in the United States (19 U.S.C. 1304a).

* * * * *

Subpart O—Delegations of Authority by the Assistant Secretary for Congressional Relations

§ 2.85 [Amended]

38. Amend § 2.85 by removing paragraph (a)(5).

Subpart P—Delegations of Authority by the Assistant Secretary for Administration

§ 2.90 [Removed]

39. Remove § 2.90.

§ 2.91 [Amended]

40. Amend § 2.91 by removing paragraph (a)(10)(xxvi).

§ 2.92 [Removed]

41. Remove § 2.92.

42. Amend § 2.93 by revising the introductory text of paragraph (a) to read as follows:

§ 2.93 Director, Office of Procurement and Property Management.

(a) Delegations. Pursuant to § 2.24(a)(6) of this chapter, and with due deference for delegations to other Departmental Management officials, the following delegations of authority are made by the Assistant Secretary for Administration to the Director, Office of Procurement and Property Management:

* * * * *

43. Amend § 2.94 by adding a new paragraph (a)(15), to read as follows:

§ 2.94 Director, Office of Advocacy and Outreach.

(a) * * *

(15) Serve as a lead agency in carrying out student internship programs (7 U.S.C. 2279c).

* * * * *

Subpart T—Delegations of Authority by the Chief Financial Officer

44. Revise § 2.500 to read as follows:

§ 2.500 Deputy Chief Financial Officer.

Pursuant to § 2.28, the following delegation of authority is made by the Chief Financial Officer to the Deputy Chief Financial Officer, to be exercised only during the absence or unavailability of the Chief Financial Officer: Perform all the duties and exercise all the powers which are now or which may hereafter be delegated to the Chief Financial Officer.

§ 2.501 [Removed]

45. Remove § 2.501.

CHAPTER XVII—RURAL UTILITIES SERVICE, DEPARTMENT OF AGRICULTURE

PART 1700—GENERAL INFORMATION

46. The authority citation for part 1700 continues to read as follows:

Authority: 5 U.S.C. 301, 552; 7 U.S.C. 901 et seq., 1921 et seq., 6941 et seq.; 7 CFR 2.7.

Subpart B—Agency Organization and Functions

47. Revise § 1700.25 to read as follows:

§ 1700.25 Office of the Administrator.

The Administrator of the Rural Utilities Service (RUS) and of the Rural Telephone Bank (RTB) is appointed by the President. The Under Secretary, Rural Development delegated to the Administrator, in 7 CFR part 2, responsibility for administering the programs and activities of RUS and RTB. The Administrator is aided directly by Deputy Administrators and by Assistant Administrators for the electric program, telecommunications program, the water and environmental programs, and program accounting and regulatory analysis, and by other staff offices. The work of the agency is carried out as described in this part.

48. Revise § 1700.26 to read as follows:

§ 1700.26 Deputy Administrator.

The Deputy Administrator aids and assists the Administrator. The Deputy Administrator provides overall policy direction to all RUS programs. The Deputy Administrator reviews agency policies and, as necessary, implements changes and participates with the Administrator and other officials in planning and formulating the programs and activities of the agency, including the making and servicing of loans and grants.

Subpart C—Loan and Grant Approval Authorities

§ 1700.53 [Removed]

49. Remove § 1700.53.

CHAPTER XXXVIII—WORLD AGRICULTURAL OUTLOOK BOARD, DEPARTMENT OF AGRICULTURE

PART 3800—ORGANIZATION AND FUNCTIONS

50. The authority citation for part 3800 is revised to read as follows:

Authority: 5 U.S.C. 301 and 552, and 7 CFR 2.72, except as otherwise noted.

§ 3800.3 [Amended]

51. Amend § 3800.3 by removing paragraph (d).

Dated: July 14, 2014.
Thomas J. Vilsack,
Secretary of Agriculture.

[FR Doc. 2014-17352 Filed 7-29-14; 8:45 am]

BILLING CODE 3410-90-P